DEPARTMENT OF ENERGY

Federal Energy Regulatory Commission

Combined Notice of Filings

Take notice that the Commission has received the following Natural Gas and Oil Pipeline Rate and Refund Report filings:

Filings Instituting Proceedings

Docket Numbers: PR24-1-000.

Applicants: The East Ohio Gas Company.

Description: § 284.123(g) Rate Filing: Operating Statement of The East Ohio Gas Company 10/1/2023 to be effective 10/1/2023.

Filed Date: 10/4/23.

Accession Number: 20231004-5088.

Comment Date: 5 p.m. ET 10/25/23.

Protest Date: 5 p.m. ET 12/4/23.

Docket Numbers: RP24-20-000.

Applicants: ANR Pipeline Company.

Description: § 4(d) Rate Filing: OFO Penalty to be effective 11/3/2023.

Filed Date: 10/3/23.

Accession Number: 20231003-5173.

Comment Date: 5 p.m. ET 10/16/23.

Docket Numbers: RP24-21-000.

Applicants: Iroquois Gas Transmission System, L.P.

Description: § 4(d) Rate Filing: 10.4.23 Negotiated Rates—Citadel Energy Marketing LLC R-7705-20 to be effective 11/1/2023.

Filed Date: 10/4/23.

Accession Number: 20231004-5008.

Comment Date: 5 p.m. ET 10/16/23.

Docket Numbers: RP24-22-000.

Applicants: Iroquois Gas Transmission System, L.P.

Description: § 4(d) Rate Filing: 10.4.23 Negotiated Rates—Citadel Energy Marketing LLC R-7705-21 to be effective 11/1/2023.

Filed Date: 10/4/23.

Accession Number: 20231004-5009.

Comment Date: 5 p.m. ET 10/16/23.

Docket Numbers: RP24-23-000.

Applicants: Iroquois Gas Transmission System, L.P.

Description: § 4(d) Rate Filing: 10.4.23 Negotiated Rates—Emera Energy Services, Inc. R-2715-57 to be effective 11/1/2023.

Filed Date: 10/4/23.

Accession Number: 20231004-5015.

Comment Date: 5 p.m. ET 10/16/23.

Docket Numbers: RP24-24-000.

Applicants: Iroquois Gas Transmission System, L.P.

Description: § 4(d) Rate Filing: 10.4.23 Negotiated Rates—Emera Energy Services, Inc. R-2715-58 to be effective 11/1/2023.

Filed Date: 10/4/23.

Accession Number: 20231004-5018.

Comment Date: 5 p.m. ET 10/16/23.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP23-863-002.

Applicants: Tennessee Gas Pipeline Company, L.L.C.

Description: Compliance filing: Revised TGP Powerserve Compliance to be effective 10/1/2023.

Filed Date: 10/3/23.

Accession Number: 20231003-5155.

Comment Date: 5 p.m. ET 10/16/23.

Docket Numbers: RP23-1143-000.

Applicants: Cimarron River Pipeline, LLC.

Description: Report Filing: Cimmarron River Pipeline—Amendment to Fuel Rate filing (Winter 2023) to be effective N/A.

Filed Date: 10/3/23.

Accession Number: 20231003-5160.

Comment Date: 5 p.m. ET 10/16/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: October 4, 2023.
Debbie-Anne A. Reese,
Deputy Secretary.

[FR Doc. 2023-22512 Filed 10-12-23; 8:45 am]

BILLING CODE 6717-01-P